DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of February 2006.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. there has been a shift in production by such workers' firm or subdivision to a foreign country of articles like or directly competitive with articles which are produced by such firm or subdivision; and

C. one of the following must be satisfied:

1. The country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) the workers' firm (or subdivision) is a supplier or downstream producer to a firm (or subdivision) that employed a group of workers who received a certification of eligibility to apply for trade adjustment assistance benefits and such supply or production is related to the article that was the basis for such certification; and

(3) either-

(A) The workers' firm is a supplier and the component parts it supplied for the firm (or subdivision) described in paragraph (2) accounted for at least 20 percent of the production or sales of the workers' firm; or

(B) a loss of business by the workers' firm with the firm (or subdivision) described in paragraph (2) contributed importantly to the workers' separation or threat of separation.

Affirmative Determinations for Worker Adjustment Assistance

The following certifications have been issued; the date following the company name and location of each determination references the impact date for all workers of such determination.

The following certifications have been issued. The requirements of (a)(2)(A) (increased imports) of Section 222 have been met.

TA-W-58,571; Parlex Corporation, Multi Layer Business Unit, Methuen, MA, January 4, 2005

TA-W-58,597; Cooper Standard Automotive, North American Sealing Systems Division, Gaylord, MI, December 27, 2004

TA-W-58,630; Swagelok Biopharm Services Company, North Tonawanda, NY, January 5, 2005

TA-W-58,705; Daisy Outdoor Products, BB Production Div., Salem, MO, January 20, 2005

TA-W-58,750; Robert Bosch Tool Corp., A Subsidiary of Robert Bosch Corp., Leased Production Workers From ESA/Resource, Heber Springs, AR, January 30, 2005

TA-W-58,757; Swarovski North America Limited, Crystal Goods Div., Cranston, RI, January 30, 2005

TA-W-58,757A; Swarovski North America Limited, Crystal Components Div., Cranston, RI, January 30, 2005

TA-W-58,658; CMOR Manufacturing, Inc., Rocklin, CA, January 18, 2005

TA-W-58,431; Clarion Sintered Metals, Ridgway, PA, November 30, 2004

TA-W-58,491; Hanes Dye and Finishing Co., Winston-Salem, NC, October 9, 2005

TA-W-58,570; Sierra Manufacturing Group, LLC, Including on-Site Lease Workers of Skill Span Staffing, Pocola, OK, January 3, 2005

TA-W-58,628; Five Rivers Electronic Innovations LLC, Color Television Product Line, Greeneville, TN, October 2, 2005

TA-W-58,628A; Five Rivers Electronic Innovations LLC, Plastic Parts Product Line, Greeneville, TN, October 2, 2005

TA-W-58,628B; Five Rivers Electronic Innovations LLC, Distribution Warehouse, Greeneville, TN, October 2, 2005

TA-W-58,776; Flynn Enterprises, LLC, Elkton Laundry Division, Elkton, KY, January 27, 2005

TA-W-58,564; Lizette Creations, Inc., Long Beach, CA, December 30, 2004

The following certifications have been issued. The requirements of (a)(2)(B) (shift in production) of Section 222 have been met.

TA-W-58,550; Baxter Healthcare Corporation, Financial Center of Excellence, Deerfield, IL, December 28, 2004

TA-W-58,700; Deutsch Engineered Connecting Devices, Defense/Aerospace Div., Hemet, CA, January 5, 2005

TA-W-58,437; Medsep Corporation, dba Pall Medical, A Subsidiary of Pall Corp., Leased Workers of Kelly Services, Covina, CA, November 30, 2004

TA-W-58,594; Donaldson Company, Grinnell, IA, January 6, 2005

TA-W-58,648; Fisher Hamilton L.L.C., Subsidiary of Fisher Scientific International, Inc., Two Rivers, WI, January 13, 2005

TA-W-58,661; KEMET Electronics Corporation, Including Leased Workers of BPS, Staffmark and Phillips Staffing, Simpsonville, SC, February 24, 2006

TA-W-58,661A; KEMET Electronics Corporation, Including Leased Workers of BPS, Staffmark and Phillips Staffing, Simpsonville, SC, February 24, 2006

TA-W-58,679; Falcon Foam, a Division of Atlas Roofing Corp., Los Angeles, CA, January 19, 2005

TA-W-58,696; Entrecap Corporation, dba Fing'rs, A Subsidiary of Pacific World Corporation, Camarillo, CA, January 3, 2005

TA-W-58,704; Brunswick Bowling and Billiards Corp., A Subsidiary of Brunswick Corp., Leased Workers of Staffing Alliance, Muskegon, MI, January 23, 2005

TA-W-58,752; Claireson Manufacturing Co., Division of Blauer Mfg. Co., Inc., Forrest City, AR, January 30, 2005

TA-W-58,578; Bekaert Corporation, SSW-Muskegon Division, Muskegon, MI, January 4, 2005

TA-W-58,581; Bernhardt Furniture Company, Design Division Plant #3, Lenoir, NC, January 4, 2005

The following certification has been issued.

The requirement of supplier to a trade certified firm has been met.

TA-W-58,542; River City Plastic, Vicksburg, MI, December 9, 2004

TA-W-58,633; Southern Hardwoods, Inc., Laurinburg, NC, January 10, 2005

The following certification has been issued.

The requirement of downstream producer to a trade certified firm has been met.

None

Negative Determinations for Worker Adjustment Assistance

In the following cases, the investigation revealed that the criteria for eligibility have not been met for the reasons specified.

The investigation revealed that criterion (a)(2)(A)(I.A) and (a)(2)(B)(II.A) (no employment decline) has not been met.

TA-W-58,566; Pentair Pool Products, Inc., Pool and Spa Division, Moorpark, CA.

The investigation revealed that criteria (a)(2)(A)(I.B.)(Sales or production, or both, did not decline) and (a)(2)(B)(II.B) (shift in production to a foreign country) have not been met.

TA-W-58,733; Ranco North America, Division: Com-Trol, A Subsidiary of Invensys, Mansfield, OH.

TA-W-58,653; AK Steel, Butler Works, Butler, PA.

The investigation revealed that criteria (a)(2)(A)(I.C.)(increased imports) and (a) (2) (B) (II.B) (No shift in production to a foreign country) have not been met.

TA-W-58,036; Liberty Carton, New England Division, Peabody, MA.

TA-W-58,236; Natick Paperboard Corp., Paperboard Mill Div., Natick, MA.

TA-W-58,585; Goodyear Tire and Rubber Company, Engineered Products Division, St. Marys, OH.

The investigation revealed that criteria (a)(2)(A)(I.C.)(Increased imports and (a) (2) (B) (II.C) (has shifted production to a foreign country) have not been met.

None

The workers firm does not produce an article as required for certification under Section 222 of the Trade Act of 1974.

TA-W-58,569; OBG Distribution Company, LLC, Celina, TN.

TA-W-58,632; Leyold Vacuum, USA, Tempe, AZ.

TA-W-58,675; Outsource Partners International, Houston, TX.

TA-W-58,743; Getronics, Call Center, Tampa, FL.

The investigation revealed that criteria (2) has not been met. The workers firm (or subdivision) is not a supplier or downstream producer to trade-affected companies.

TA-W-58,718; Schoeller Arca Systems, Tacoma, WA.

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-58,571; Parlex Corporation, Multi Layer Business Unit, Methuen, MA, January 4, 2005

TA-W-58,597; Cooper Standard Automotive, North American Sealing systems Division, Gaylord, MI, December 27, 2004

TA-W-58,630; Swagelok Biopharm Services Company, North Tonawanda, NY, January 5, 2005

TA-W-58,705; Daisy Outdoor Products, BB Production Div., Salem, MO, January 20, 2005

TA-W-58,750; Robert Bosch Tool Corp., A Subsidiary of Robert Bosch Corp., Leased Production Workers From ESA/Resource, Heber Springs, AR, January 30, 2005

TA-W-58,757; Swarovski North America Limited, Crystal Goods Div., Cranston, RI, January 30, 2005

TA-W-58,757A; Swarovski North America Limited, Crystal Components Div., Cranston, RI, January 30, 2005

TA-W-58,431; Clarion Sintered Metals, Ridgway, PA, November 30, 2004

TA-W-58,491; Hanes Dye and Finishing Co., Winston-Salem, NC, October 9, 2005

TA-W-58,570; Sierra Manufacturing Group, LLC, Including on-Site Leased Workers of Skill Span Staffing, Pocola, OK, January 3, 2005

TA-W-58,628; Five Rivers Electronic Innovations LLC, Color Television Product Line, Greeneville, TN, October 2, 2005

TA-W-58,628A; Five Rivers Electronic Innovations LLC, Plastic Parts Product Line, Greeneville, TN, October 2, 2005

TA-W-58,628B; Five Rivers Electronic Innovations LLC, Distribution Warehouse, Greeneville, TN, October 2, 2005

TA-W-58,776; Flynn Enterprises, LLC, Elkton Laundry Division, Elkton, KY, January 27, 2005

TA-W-58,564; Lizette Creations, Inc., Long Beach, CA, December 30, 2004

TA-W-58,437; Medsep Corporation, dba Pall Medical, A Subisdiary of Pall Corp., Leased Workers of Kelly Services, Covina, CA, November 30, 2004

TA-W-58,594; Donaldson Company, Grinnell, IA, January 6, 2005

TA-W-58,648; Fisher Hamilton LLC, Subsidiary of Fisher Scientific International, Inc., Two Rivers, WI, January 13, 2005

TA-W-58,661; KEMET Electronics Corporation, Including Leased Workers of BPS, Staffmark and Phillips Staffing, Simpsonville, SC, February 24, 2006

TA-W-58,661A; KEMET Electronics Corporation, Including Leased Workers of BPS, Staffmark and Phillips Staffing, Simpsonville, SC, February 24, 2006

TA-W-58,679; Falcon Foam, a Division of Atlas Roofing Corp., Los Angeles, CA, January 19, 2005

TA-W-58,696; Entrecap Corporation, dba Fing'rs, A Subsidiary of Pacific World Corporation, Camarillo, CA, January 3, 2005

TA-W-58,704; Brunswick Bowling and Billiards Corp., A Subsidiary of Brunswick Corp., Leased Workers of Staffing Alliance, Muskegon, MI, January 23, 2005

TA-W-58,752; Claireson Manufacturing Co., Division of Blauer Mfg. Co., Inc., Forrest City, AR, January 30, 2005

TA-W-58,578; Bekaert Corporation, SSW-Muskegon Division, Muskegon, MI, January 4, 2005

TA-W-58,581; Bernhardt Furniture Company, Design Division Plant #3, Lenoir, NC, January 4, 2005

TA-W-58,542; River City Plastic, Vicksburg, MI, December 9, 2004

TA-W-58,633; Southern Hardwoods, Inc., Laurinburg, NC, January 10, 2005

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

Since the workers are denied eligibility to apply for TAA, the workers cannot be certified eligible for ATAA.

TA-W-58,733; Ranco North America, Division: Com-Trol, A Subsidiary of Invensys, Mansfield, OH.

TA-W-58,653; AK Steel, Butler Works, Butler, PA.

TA-W-58,036; Liberty Carton, New England Division, Peabody, MA.

TA-W-58,236; Natick Paperboard Corp., Paperboard Mill Div., Natick, MA.

TA-W-58,585; Goodyear Tire and Rubber Company, Engineered Products Division, St. Marys, OH.

TA-W-58,569; OBG Distribution Company, LLC, Celina, TN.

TA-W-58,632; Leyold Vacuum, USA, Tempe, AZ.

TA-W-58,675; Outsource Partners International, Houston, TX.

TA-W-58,743; Getronics, Call Center, Tampa, FL.

TA-W-58,718; Schoeller Arca Systems, Tacoma, WA.

The Department has determined that criterion (1) of Section 246 has not been met. Workers at the firm are 50 years of age or older.

TA-W-58,658; CMOR Manufacturing, Inc., Rocklin, CA.

The Department has determined that criterion (2) of Section 246 has not been met. Workers at the firm possess skills that are easily transferable.

TA-W-58,550; Baxter Healthcare Corporation, Financial Center of Excellence, Deerfield, IL,

TA-W-58,700; Deutsch Engineered Connecting Devices, Defense/Aerospace Div., Hemet, CA.

The Department has determined that criterion (3) of Section 246 has not been met. Competition conditions within the workers' industry are not adverse.

None.

I hereby certify that the aforementioned determinations were issued during the month of February 2006. Copies of these determinations are available for inspection in Room C-5311, U.S. Department of Labor, 200 Constitution Avenue, NW., Washington, DC 20210 during normal business hours or will be mailed to persons who write to the above address.

Dated: February 24, 2006.
Erica R. Cantor,
Director, Division of Trade Adjustment Assistance.

[FR Doc. E6-2978 Filed 3-1-06; 8:45 am]

BILLING CODE 4510-30-P